DEPARTMENT OF TRANSPORTATION

Federal Aviation Administration (FAA)

Notice of Approval of Finding of No Significant Impact (FONSI) on a Short Form Environmental Assessment (EA); Chicago/Rockford International Airport, Rockford, IL

AGENCY: Federal Aviation Administration (FAA), DOT.

ACTION: Notice of Approval of Documents.

SUMMARY: The Federal Aviation Administration (FAA) is issuing this notice to advise the public of the approval of a Finding of No Significant Impact (FONSI) on an Environmental Assessment for proposed Federal actions at Chicago/Rockford International Airport, Rockford, Illinois. The FONSI specifies that the proposed federal actions and local development projects are consistent with existing environmental policies and objectives as set forth in the National Environmental Policy Act of 1969 and will not significantly affect the quality of the environment.

A description of the proposed Federal actions is: (a) To issue an environmental finding to allow approval of the Airport Layout Plan (ALP) for the development items listed below.

The items in the local airport development project are to: Acquire approximately 18 acres of vacant land, in fee simple title, in the Runway 25 Approach and Runway Protection Zone.

Copies of the environmental decision and the Short Form EA are available for public information review during regular business hours at the following locations:

1. Chicago/Rockford International Airport, 60 Airport Drive, Rockford, IL 61109.

2. Division of Aeronautics—Illinois Department of Transportation, One Langhorne Bond Drive, Capital Airport, Springfield, IL 62707.

3. Federal Aviation Administration, Chicago Airports District Office, 2300 East Devon Avenue, Room 320, Des Plaines, Illinois 60018.

FOR FURTHER INFORMATION CONTACT: Amy B. Hanson, Environmental Protection Specialist, Federal Aviation Administration, Chicago Airports District Office, Room 320, 2300 East Devon Avenue, Des Plaines, Illinois 60018. Ms. Hanson can be contacted at (847) 294-7354 (voice), (847) 294-7046 (facsimile) or by e-mail at amy.hanson@faa.gov.

Issued in Des Plaines, Illinois, on June 19, 2008.
James G. Keefer,
Manager, Chicago Airports District Office, FAA, Great Lakes Region.

[FR Doc. E8-15551 Filed 7-10-08; 8:45 am]

BILLING CODE 4910-13-M